FEDERAL COMMUNICATIONS COMMISSION

Notice of Public Information Collection(s) Being Submitted for Review to the Office of Management and Budget

March 11, 2008.

SUMMARY: The Federal Communications Commission, as part of its continuing effort to reduce paperwork burden invites the general public and other Federal agencies to take this opportunity to comment on the following information collection(s), as required by the Paperwork Reduction Act (PRA) of 1995, 44 U.S.C. 3501-3520. An agency may not conduct or sponsor a collection of information unless it displays a currently valid control number. No person shall be subject to any penalty for failing to comply with a collection of information subject to the Paperwork Reduction Act (PRA) that does not display a valid control number. Comments are requested concerning (a) whether the proposed collection of information is necessary for the proper performance of the functions of the Commission, including whether the information shall have practical utility; (b) the accuracy of the Commission's burden estimate; (c) ways to enhance the quality, utility, and clarity of the information collected; and (d) ways to minimize the burden of the collection of information on the respondents, including the use of automated collection techniques or other forms of information technology.

DATES: Written Paperwork Reduction Act (PRA) comments should be submitted on or before May 20, 2008. If you anticipate that you will be submitting PRA comments, but find it difficult to do so within the period of time allowed by this notice, you should advise the FCC contact listed below as soon as possible.

ADDRESSES: Direct all PRA comments to Nicholas A. Fraser, Office of Management and Budget, (202) 395-5887, or via fax at 202-395-5167 or via internet at Nicholas_A._Fraser@omb.eop.gov and to Judith-B.Herman@fcc.gov, Federal Communications Commission, or an e-mail to PRA@fcc.gov. To view a copy of this information collection request (ICR) submitted to OMB: (1) Go to the Web page http://www.reginfo.gov/public/do/PRAMain, (2) look for the section of the Web page called “Currently Under Review”, (3) click on the downward-pointing arrow in the “Select Agency” box below the “Currently Under Review” heading, (4) select “Federal Communications Commission” from the list of agencies presented in the “Select Agency” box, (5) click the “Submit” button to the right of the “Select Agency” box, and (6) when the list of FCC ICRs currently under review appears, look for the title of this ICR (or its OMB Control Number, if there is one) and then click on the ICR Reference Number to view detailed information about this ICR.

FOR FURTHER INFORMATION CONTACT: For additional information, contact Judith B. Herman at 202-418-0214 or via the Internet at Judith-B.Herman@fcc.gov.

SUPPLEMENTARY INFORMATION: OMB Control Number: 3060-0999.

Title: Section 20.19, Hearing Aid-Compatible Mobile Handsets (Hearing Aid-Compatibility Act).

Form Nos.: N/A.

Type of Review: Revision of a currently approved collection.

Respondents: Business or other for-profit.

Number of Respondents: 925 respondents; 950 responses.

Estimated Time Per Response: 1.5-4 hours.

Frequency of Response: On occasion and annual reporting requirements and third party disclosure requirement.

Obligation To Respond: Required to obtain or retain benefits.

Total Annual Burden: 12,600 hours.

Total Annual Cost: N/A.

Privacy Act Impact Assessment: N/A.

Nature and Extent of Confidentiality: In submitting the information requested in the reports, respondents may need to disclose confidential information to satisfy the requirements. However, covered entities would be free to request that such materials submitted to the Commission be withheld from public inspection (see 47 CFR 0.459 of the Commission's rules).

Needs and Uses: The Commission will submit this information collection to the OMB after this 60 day comment period as a revision to obtain the full three-year clearance from them. There is an increase in the estimated burden hours.

Commission rules require digital wireless phone manufacturers and service providers to make available a certain number of digital wireless handset models that meet specific performance levels set forth in an established technical standard. The phones must be made available according to an implementation schedule specified in Commission rules.

The Commission adopted and released a First Report and Order on February 28, 2008 (FCC 08-68) in which the Commission modified the deployment benchmarks for hearing aid-compatible phones, and imposed new requirements on manufacturers and service providers to ensue their product lines are current and include handset models with varying levels of functionality and are periodically refreshed. The Commission also requires manufacturers and service providers to continue to file reports on the status of their compliance with these requirements, and it modified the content and timing of these reports (service providers are to file the new reports annually beginning on January 2009 and manufacturers will file in January 2009 and then annually beginning in July 2009). The requirement to provide certain information in conjunction with product labeling remains, although the details of the information required has changed slightly, especially with regard to phones that have Wi-Fi air interface capability. Finally, the Commission requires manufacturers and service providers which already have public Web sites to publish up-to-date information on their Web sites regarding their hearing aid-compatible models and to keep that information current.

The reporting criteria will assist the Commission staff in monitoring the progress of implementation by phone manufacturers and wireless carriers, and it will provide valuable information to the public concerning hearing aid-compatible handsets. The reports will permit the Commission to continue to stay abreast of ongoing standards work, testing, and other pertinent information associated with achieving digital wireless compatibility with hearing aids and cochlear implants. This information will help to ensure that the Commission's decisions relating to hearing aid compatibility with wireless phones are fair to all involved and reflect the actual status of technology. The technical standard for hearing aid compatibility is required by the Hearing Aid Compatibility (HAC) Act of 1988, and will be used by covered entities and the Commission as a compliance guide.

Federal Communications Commission.
Marlene H. Dortch,
Secretary.

[FR Doc. E8-5834 Filed 3-20-08; 8:45 am]

BILLING CODE 6712-01-P